DEPARTMENT OF LABOR

Employment and Training Administration

[TA-W-53,714 and TA-W-53,714A]

Facemate Corporation, Chicopee, MA and Facemate Corporation, Sales Office, New York, NY; Amended Certification Regarding Eligibility To Apply for Worker Adjustment Assistance

In accordance with section 223 of the Trade Act of 1974 (19 U.S.C. 2273) the Department of Labor issued a Certification of Eligibility to Apply for Worker Adjustment Assistance on February 3, 2004, applicable to workers of Facemate Corporation, Chicopee, Massachusetts. The notice was published in the Federal Register on March 12, 2004 (69 FR 11889).

At the request of a State agency, the Department reviewed the certification for workers of the subject firm. The workers were engaged in the production of textile interlinings.

Information shows that worker separations occurred at the New York, New York location of the subject firm. The workers provided sales and marketing functions for the subject firm's production facility located in Chicopee, Massachusetts.

Accordingly, the Department is amending the certification to include workers of Facemate Corporation, Sales Office, New York, New York.

The intent of the Department's certification is to include all workers of Facemate Corporation who were adversely affected by increased imports.

The amended notice applicable to TA-W-53,714 is hereby issued as follows:

All workers of Facemate Corporation, Chicopee, Massachusetts (TA-W-53,714) and Facemate Corporation, Sales Office, New York, New York (TA-W-54,714A), who became totally or partially separated from employment on or after December 1, 2002, through February 3, 2006, are eligible to apply for adjustment assistance under section 223 of the Trade Act of 1974.

Signed in Washington, DC this 25th day of May, 2004.
Elliott S. Kushner,
Certifying Officer, Division of Trade Adjustment Assistance.

[FR Doc. 04-12646 Filed 6-3-04; 8:45 am]

BILLING CODE 4510-30-P